DEPARTMENT OF HOMELAND SECURITY

Federal Emergency Management Agency

[Docket ID FEMA-2011-0038; OMB No. 1660-0034]

Agency Information Collection Activities: Proposed Collection; Comment Request, Emergency Management Institute Course Evaluation Form

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning the Emergency Management Institute Course Evaluation Form, which is used to evaluate the quality of course deliveries, facilities, and instructors at the Emergency Management Institute (EMI).

DATES: Comments must be submitted on or before January 20, 2012.

ADDRESSES: To avoid duplicate submissions to the docket, please use only one of the following means to submit comments:

(1) Online. Submit comments at http://www.regulations.gov under Docket ID FEMA-2011-0038. Follow the instructions for submitting comments.

(2) Mail. Submit written comments to Regulatory Affairs Division, Office of Chief Counsel, DHS/FEMA, 500 C Street SW., Room 835, Washington, DC 20472-3100.

(3) Facsimile. Submit comments to (703) 483-2999.

(4) Email. Submit comments to FEMA-POLICY@dhs.gov. Include Docket ID FEMA-2011-0038 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Jacqueline Martin, Training Support Specialist, Emergency Management Institute, at (301) 447-1216 or jacqueline.martin@dhs.gov for additional information. You may contact the Records Management Division for copies of the proposed collection of information at facsimile number (202) 646-3347 or email address: FEMA-Information-Collections-Management@dhs.gov.

SUPPLEMENTARY INFORMATION: EMI develops courses and administers resident and nonresident training programs in areas such as natural hazards, technical hazards, instructional methodology, professional development, leadership, exercise design and evaluation, information technology, public information, integrated emergency management, and train-the-trainer. In order to meet current information needs of EMI staff and management, EMI uses course evaluation forms to identify problems with course materials, delivery, facilities, and instructors. Information received through the course evaluations is used to recommend revisions to course materials, student selection criteria, training experience, and classroom environment. Section 611 of the Robert T. Stafford Disaster Relief and Emergency Assistance Act (42 U.S.C. 5196) authorizes training programs for emergency preparedness for State, local, Tribal and territorial government personnel.

Collection of Information

Title: Emergency Management Institute Course Evaluation Form.

Type of Information Collection: Revision of a currently approved information collection.

OMB Number: 1660-0034.

Form Titles and Numbers: FEMA Form 092-0-3, Emergency Management Institute Course Evaluation Form.

Abstract: Students attending the Emergency Management Institute resident program courses at the Federal Emergency Management Agency's National Emergency Training Center will be asked to complete a course evaluation form upon completion of each course they attend. The information will be used by EMI staff and management to identify problems with course materials, and will evaluate the quality of the course delivery facilities, and instructors.

Affected Public: State, Local, or Tribal Government, Individuals or households.

Estimated Total Annual Burden Hours: 2,746.

Estimated Annualized Burden Hours and Costs
Type of respondent | Form name/form No. | Number of respondents | Number of responses per respondent | Total number of responses | Avg. burden per response (in hours) | Total annual burden (in hours) | Avg. hourly wage rate | Total annual respondent cost
State, Local or Tribal Government | Emergency Management Institute Residential Course Evaluation Form/FEMA Form 092-0-3 (electronic) | 17,500 | 1 | 17,500 | .05 (3 minutes) | 875 | $37.25 | $32,593.75
Individuals or Households | Emergency Management Institute Residential Course Evaluation Form/FEMA Form 092-0-3 (electronic) | 2,500 | 1 | 2,500 | .05 (3 minutes) | 125 | 29.89 | 3,736.25
State, Local or Tribal Government | Emergency Management Institute Residential Course Evaluation Form/FEMA Form 092-0-3 (paper) | 14,444 | 1 | 14,444 | .1667 (10 minutes) | 2,408 | 37.25 | 89,698.00
Individuals or Households | Emergency Management Institute Residential Course Evaluation Form/FEMA Form 092-0-3 (paper) | 2,000 | 1 | 2,000 | .1667 (10 minutes) | 333 | 29.89 | 9,953.37
Total |  | 36,444 |  | 36,444 |  | 3,741 |  | 135,981.37

Estimated Cost: The estimated annual cost to respondents for the hour burden is $135,981.37. There is no estimated annual cost to respondents for operations and maintenance costs for technical services. There are no annual start-up or capital costs. The cost to the Federal government is $77,775.50.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Gary L. Anderson,
Acting Chief Administrative Officer, Mission Support Bureau, Federal Emergency Management Agency, Department of Homeland Security.

[FR Doc. 2011-29939 Filed 11-18-11; 8:45 am]

BILLING CODE 9111-72-P